DEPARTMENT OF ENERGY

Federal Energy Regulatory Commission

Combined Notice of Filings #1

Take notice that the Commission received the following electric rate filings:

Docket Numbers: ER10-1852-017; ER17-838-001; ER11-4462-026; ER16-1277-003; ER16-1354-003; ER16-1913-002; ER16-1293-003.

Applicants: Florida Power & Light Company, Live Oak Solar, LLC, NextEra Energy Power Marketing, LLC, NEPM II, LLC, River Bend Solar, LLC, White Oak Solar, LLC, White Pine Solar, LLC.

Description: Triennial Market Power Update for Southeast Region and Request for Confidential Treatment of the NextEra Companies.

Filed Date: 6/30/17.

Accession Number: 20170630-5468.

Comments Due: 5 p.m. ET 8/29/17.

Docket Numbers: ER17-1432-001.

Applicants: California Independent System Operator Corporation.

Description: Tariff Amendment: 2017-07-05 Response to Deficiency Letter—GIDNUCR Amendment to be effective 6/18/2017.

Filed Date: 7/5/17.

Accession Number: 20170705-5136.

Comments Due: 5 p.m. ET 7/26/17.

Docket Numbers: ER17-1577-001.

Applicants: Reuel Energy LLC.

Description: Tariff Amendment: Reuel Energy LLC Revised MBR Application to be effective 7/7/2017.

Filed Date: 7/5/17.

Accession Number: 20170705-5065.

Comments Due: 5 p.m. ET 7/26/17.

Docket Numbers: ER17-1578-001.

Applicants: Keni Energy LLC.

Description: Tariff Amendment: Keni Energy LLC Revised MBR Application to be effective 7/7/2017.

Filed Date: 7/5/17.

Accession Number: 20170705-5067.

Comments Due: 5 p.m. ET 7/26/17.

Docket Numbers: ER17-2045-000.

Applicants: PJM Interconnection, L.L.C.

Description: § 205(d) Rate Filing: Wholesale Market Participation Agreement No. 4749; Queue No. AC1-037 to be effective 6/29/2017.

Filed Date: 7/5/17.

Accession Number: 20170705-5057.

Comments Due: 5 p.m. ET 7/26/17.

Docket Numbers: ER17-2047-000.

Applicants: Southern California Edison Company.

Description: Tariff Cancellation: Notice of Cancellation Letter Agreement with Riverside Public Utilities to be effective 9/4/2017.

Filed Date: 7/5/17.

Accession Number: 20170705-5085.

Comments Due: 5 p.m. ET 7/26/17.

Docket Numbers: ER17-2048-000.

Applicants: PJM Interconnection, L.L.C.

Description: § 205(d) Rate Filing: Amendment to Service Agreement No. 4597, Queue Position No. AB2-048 to be effective 11/30/2016.

Filed Date: 7/5/17.

Accession Number: 20170705-5086.

Comments Due: 5 p.m. ET 7/26/17.

Docket Numbers: ER17-2049-000.

Applicants: NRG Berrians East Development LLC, NRG Energy, Inc.

Description: Request for Limited Waiver of the NRG Companies.

Filed Date: 7/3/17.

Accession Number: 20170703-5230.

Comments Due: 5 p.m. ET 7/24/17.

Docket Numbers: ER17-2050-000.

Applicants: Southwest Power Pool, Inc.

Description: § 205(d) Rate Filing: 1518R12 Arkansas Electric Cooperative Corp NITSA NOA to be effective 7/1/2017.

Filed Date: 7/6/17.

Accession Number: 20170706-5046.

Comments Due: 5 p.m. ET 7/27/17.

Docket Numbers: ER17-2051-000.

Applicants: Niagara Mohawk Power Corporation, New York Independent System Operator, Inc.

Description: § 205(d) Rate Filing: Section 205 LGIA No. 2345 between NMPC and Selkirk to be effective 6/26/2017.

Filed Date: 7/6/17.

Accession Number: 20170706-5048.

Comments Due: 5 p.m. ET 7/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2017.
Nathaniel J. Davis, Sr.,
Deputy Secretary.

[FR Doc. 2017-14652 Filed 7-12-17; 8:45 am]

BILLING CODE 6717-01-P